NUCLEAR REGULATORY COMMISSION

[NRC-2009-0487]

Notice of Availability of the Models for Plant-Specific Adoption of Technical Specifications Task Force Traveler TSTF-493, Revision 4, “Clarify Application of Setpoint Methodology for LSSS Functions”

AGENCY: Nuclear Regulatory Commission (NRC).

ACTION: Notice of Availability.

SUMMARY: The NRC is announcing the availability of model applications (with model no significant hazards consideration determinations) and model safety evaluations (SEs) of the options for plant-specific adoption of Technical Specifications Task Force (TSTF) Traveler TSTF-493, Revision 4, “Clarify Application of Setpoint Methodology for LSSS Functions.” TSTF-493, Revision 4, and an errata sheet are available in the Agencywide Documents Access and Management System (ADAMS) under Accession Numbers ML100060064 and ML101160026, respectively. The proposed changes revise Standard Technical Specifications (TSs) with respect to limiting safety system settings (LSSSs) assessed during periodic testing and calibration of instrumentation that may have an adverse effect on equipment operability. This model SEs will facilitate expedited approval of plant-specific adoption of TSTF-493, Revision 4.

Documents: You can access publicly available documents related to this notice using the following methods:

NRC's Public Document Room (PDR): The public may examine and have copied for a fee publicly available documents at the NRC's PDR, Public File Area O1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov.

The model applications (with model no significant hazards consideration determinations) and model SEs of the options for plant-specific adoption of TSTF-493, Revision 4, are available electronically under ADAMS Accession Numbers: ML100710442 and ML100710443. The NRC staff disposition of comments received to the Notice of Opportunity for Comment announced in the Federal Register on November 10, 2009 (74 FR 58065-58067), is available electronically under ADAMS Accession Number ML100780154.

Federal Rulemaking Website: Public comments received and supporting materials related to this notice can be found at http://www.regulations.gov by searching on Docket ID: NRC-2009-0487.

FOR FURTHER INFORMATION CONTACT: Mr. Carl S. Schulten, Senior Reactor Systems Engineer, Technical Specifications Branch, Mail Stop: O-7 C2A, Division of Inspection and Regional Support, Office of Nuclear Reactor Regulation, U.S. Nuclear Regulatory Commission, Washington, DC, 20555-0001; telephone 301-415-1192 or e-mail at carl.schulten@nrc.gov or Ms. Michelle C. Honcharik, Senior Project Manager, Licensing Processes Branch, Mail Stop: O-12 D1, Division of Policy and Rulemaking, Office of Nuclear Reactor Regulation, U.S. Nuclear Regulatory Commission, Washington, DC 20555-0001; telephone 301-415-1774 or e-mail at michelle.honcharik@nrc.gov.

SUPPLEMENTARY INFORMATION:

TSTF-493, Revision 4, is applicable to all nuclear power reactors. Licensees opting to apply for this TS change are responsible for reviewing the NRC staff's model SE, referencing the applicable technical justifications, and providing any necessary plant-specific information. The NRC will process each amendment application responding to this notice of availability according to applicable NRC rules and procedures.

The models do not prevent licensees from requesting an alternate approach or proposing changes other than those proposed in TSTF-493, Revision 4. However, significant deviations from the approach recommended in this notice or the inclusion of additional changes to the license require additional NRC staff review. This may increase the time and resources needed for the review or result in NRC staff rejection of the license amendment request (LAR). Licensees desiring significant deviations or additional changes should instead submit an LAR that does not claim to adopt TSTF-493, Revision 4.

The NRC staff requests that each licensee applying for the changes proposed in TSTF-493, Revision 4, include documentation regarding the following in their LAR:

Adoption of TSTF-493, Option A With Changes to Setpoint Values

• The licensee must propose to add footnotes to the applicable functions identified in TSTF-493, Revision 4, Appendix A.

• The licensee must provide summary calculations for the revised setpoints as documentation of the plant-specific instrument setpoint methodology for Option A. This includes the calculation basis for the Limiting Trip Setpoint (LTSP), Nominal Trip Setpoint (NTSP), Allowable Value (AV), As-Found Tolerance band, and As-Left Tolerance band, for each change to an automatic protection instrumentation function setpoint value. If multiple similar setpoints are proposed to be revised, a summary calculation for each type of setpoint being changed may be submitted instead of calculations for individual Functions, provided the LAR contains a reasoned quantitative or qualitative analysis, as appropriate, of how the summary calculation(s) represent the type of setpoint values proposed to be changed.

Adoption of TSTF-493, Option A Without Changes to Setpoint Values

• The licensee must add footnotes to all the functions identified in TSTF-493, Revision 4, Appendix A. No changes to any setpoint values are proposed. Since no setpoint changes are being proposed, there is no need to provide the setpoint methodology for review or to provide any full or summary calculations.

Adoption of TSTF-493 With Option B—the Setpoint Control Program Option

• The licensee must provide the plant-specific evaluation for the list of instrument Functions that are described in Setpoint Control Program (SCP) TS 5.5.[18] Paragraph a.

• The licensee must provide the content and application of the plant-specific setpoint methodology required by the SCP TS 5.5.[18] Paragraph b. This includes the calculation basis for the LTSP, NTSP, AV, As-Found Tolerance band, and As-Left Tolerance band for each automatic protection instrumentation function. The licensee must also describe the program methods for ensuring the requirements in Paragraph d will function as required by verifying the As-Left and As-Found settings are consistent with those established by the setpoint methodology. Discussion should include how the plant licensing basis meets the guidance provided in Regulatory Information Summary 2006-17, “NRC Staff Position on the Requirements of 10 CFR 50.36, `Technical Specifications,' Regarding Limiting Safety System Settings During Periodic Testing and Calibration of Instrument Channels,” and Regulatory Guide 1.105, Revision 3, “Setpoints for Safety-Related Instrumentation.” Describe the measures to be taken to ensure that the associated instrument channel is capable of performing its safety function(s) in accordance with applicable design requirements and associated analyses. Include information on the controls employed to ensure that the As-Left trip setting after completion of periodic surveillance is consistent with the setpoint methodology. Also, discuss the plant corrective action processes (including plant procedures) for restoring channels to operable status. If the controls are located in a document other than the TS (e.g., plant test procedure), describe how it is ensured that the controls will be implemented.

• The licensee must provide the plant-specific evaluation identifying the Functions required by SCP TS 5.5.[18] Paragraph d. In accordance with Paragraph d, Functions described in SCP TS 5.5.[18] Paragraph a are evaluated to identify Functions that are automatic protective devices related to variables having significant safety functions as delineated by 10 CFR 50.36(c)(1)(ii)(A). Identify any deviation from TSTF-493, Revision 4, and explain the basis for each deviation. Paragraph d contains three exclusion criteria to be applied during the evaluation. Paragraph d also requires specifying TS Surveillance Requirements which are applicable to the performance testing criteria of Paragraph d. This requirement of Paragraph d should also be included. For Functions which are not under the scope of SCP Paragraph d, but are included in SCP Paragraph a, explain how the requirements of Paragraph c will be met.

Dated at Rockville, Maryland, this 30th day of April 2010.
For the Nuclear Regulatory Commission.
Eric E. Bowman,
Acting Chief, Licensing Processes Branch, Division of Policy and Rulemaking, Office of Nuclear Reactor Regulation.

[FR Doc. 2010-11130 Filed 5-10-10; 8:45 am]

BILLING CODE 7590-01-P